DEPARTMENT OF AGRICULTURE

Food Safety and Inspection Service

[Docket No. 00-004C]

DEPARTMENT OF HEALTH AND HUMAN SERVICES

Food and Drug Administration

[Docket No. 00N-0597]

Codex Alimentarius: Meeting of the Codex Committee on General Principles; Organization for Economic Cooperation and Development: Meeting of the Ad Hoc Group on Food Safety

AGENCIES: Food Safety and Inspection Service, USDA; Food and Drug Administration, HHS.

ACTION: Notice; correction.

SUMMARY: The Food Safety and Inspection Service (FSIS), and the Office of Food Safety, U.S. Department of Agriculture (USDA); and the Food and Drug Administration (FDA), U.S. Department of Health and Human Services (HHS), announced a public meeting in the March 1, 2000, Federal Register (65 FR 11031). That document contained an error in the DATES section.

The comment due date of April 24, 2000, was incorrect. This document corrects that date. The correct comment due date is March 24, 2000.

Patrick J. Clerkin,
Associate U.S. Manager for Codex Alimentarius, U.S. Department of Agriculture.
Margaret M. Dotzel,
Acting Associate Commissioner for Policy, Food and Drug Administration.

[FR Doc. 00-6068 Filed 3-10-00; 8:45 am]

BILLING CODE 3410-DM-P; 4164-01-P